DEPARTMENT OF TRANSPORTATION

Federal Aviation Administration

Advisory Circular; Initial Maintenance Inspection (IMI) Test for Turbine Engines

AGENCY: Federal Aviation Administration, DOT.

ACTION: Notice of issuance of advisory circular.

SUMMARY: The Federal Aviation Administration (FAA) announces the issuance of Advisory Circular (AC) Number 33.90-1, Initial Maintenance Inspection (IMI) Test for Turbine Engines. This AC sets forth acceptable methods of compliance with the test requirements of § 33.90 of title 14 of the Code of Federal Regulations, Initial maintenance inspection. The information provided in this AC replaces the guidance in paragraph 61, § 33.90 IMI of AC 33-2B, Aircraft Engine Type Certification Handbook.

DATES: The Engine and Propeller Directorate, Aircraft Certification Service, issued AC 33.90-1 on March 5, 2004.

FOR FURTHER INFORMATION CONTACT: Marc Bouthillier, Engine and Propeller Standards Staff, ANE-110, 12 New England Executive Park, Burlington, MA 01803-5299; telephone: (781) 238-7120; fax (781) 238-7199; e-mail: Marc.Bouthillier@faa.gov.

We have filed in the docket all comments we received, as well as a report summarizing each substantive public contact with FAA personnel concerning this advisory circular. If you wish to review the docket in person, go to the above address between 9 a.m. and 5 p.m., Monday through Friday, except Federal holidays.

How to Obtain Copies: A paper copy of AC 33.90-1 may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at “http://www.faa.gov/”, select “Regulations and Policies” and the link title “Advisory Circulars”.

SUPPLEMENTARY INFORMATION: The FAA published a notice in the Federal Register on June 4, 2003 (68 FR 33563) to announce the availability of the proposed AC and invite interested parties to comment.

(Authority: 49 U.S.C. 106(g), 40113, 44701-44702, 44704.)

Issued in Burlington, Massachusetts, on March 5, 2004.
Jay J. Pardee,
Manager, Engine and Propeller Directorate, Aircraft Certification Service.

[FR Doc. 04-6046 Filed 3-16-04; 8:45 am]

BILLING CODE 4910-13-M